DEPARTMENT OF HOUSING AND URBAN DEVELOPMENT

[Docket No. FR-7024-N-53]

30-Day Notice of Proposed Information Collection: Evaluation of Cohort 1 of the Moving to Work Demonstration Program Expansion; OMB Control No. 2528-New

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: January 13, 2021.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on Friday, September 11, 2020 at 85 FR 56266.

A. Overview of Information Collection

Title of Information Collection: Evaluation of Cohort 1 of the Moving to Work Demonstration Program Expansion.

OMB Approval Number: 2528-New.

Type of Request: New.

Form Number: N/A.

Description of the need for the information and proposed use: The Office of Policy Development and Research (PD&R), at the U.S. Department of Housing and Urban Development (HUD), is proposing the collection of information for the Evaluation of Cohort 1 of the Moving to Work Demonstration Program Expansion.

Moving to Work (MTW) is a demonstration program that encourages public housing agencies (PHAs) to test ways to achieve three specific objectives: (1) Increase the cost effectiveness of federal housing programs, (2) increase housing choice for low-income families, and/or (3) encourage greater self-sufficiency of households receiving housing assistance. MTW designation gives PHAs relief from many of the regulations and statutory provisions that apply to the public housing and Housing Choice Voucher (HCV) programs. MTW agencies can also merge their public housing and HCV funds into a single block grant and use these funds (if desired) for local activities outside of the typical public housing and HCV programs, such as providing supportive services or developing housing for populations with special needs. In 2016, Congress authorized HUD to expand the MTW program by 100 high performing PHAs.

The MTW expansion statute emphasizes evaluating the MTW program, directing HUD to expand the program in cohorts that would allow for “one specific policy change to be implemented. . . .” and rigorously evaluated. The first cohort of the expansion will test the impact of MTW designation on small PHAs, defined for these purposes as PHAs administering no more than 1,000 housing units across their HCV and public housing programs. In Cohort 1, PHAs are free to implement any program and policy changes permissible under the MTW program. Under contract with HUD's Office of Policy Development and Research, Abt Associates Inc. will conduct an evaluation of Cohort 1 that includes a study of how PHAs use their MTW flexibility to meet the MTW program's goals and a study of the impact of MTW designation on cost effectiveness, self-sufficiency, and housing choice.

The Evaluation of Cohort 1 of the Moving to Work Demonstration Program Expansion will be implemented as a randomized control trial. To carry out the study, HUD randomly assigned the 43 eligible PHAs that submitted a Letter of Interest to HUD for Cohort 1 into one of two groups: A treatment group (33 PHAs) that is invited to complete the application for MTW designation and a control group (10 PHAs) that is not invited to complete the application for MTW designation and therefore is not permitted to receive MTW designation under Cohort 1.

The evaluation will compare the outcomes of the treatment group PHAs to the outcomes of the control group PHAs over a five-year period. To the extent possible, this evaluation will rely on analysis of secondary data that PHAs already prepare and submit to HUD, however, some primary data collection will be required.

This Federal Register Notice provides an opportunity to comment on the information collection for the evaluation. The evaluation will use the data described in this information collection request to clarify and expand on information provided in the existing data sources and to capture qualitative information about the experiences of study PHAs implementing activities related to cost effectiveness, self-sufficiency, or housing choice without MTW flexibility. The proposed information collection consists of: (1) Interviews with MTW (treatment group) PHAs; (2) online surveys to non-MTW (control group) PHAs; and (3) interviews with non-MTW (control group) PHAs.

Annualized Burden Table
Information collection | Number of respondents | Frequency of response | Responses per annum | Burden hour per response | Annual burden hours | Hourly cost per response | Cost
Interviews with MTW (Treatment Group) PHAs | 99.00 | 1 | 99.00 | 1.00 | 99.00 | $52.14 | $5,161.86
Online Surveys to Non-MTW (Control Group) PHAs | 10.00 | 1 | 10.00 | 0.50 | 5.00 | 52.14 | 260.70
Interviews with Non-MTW (Control Group) PHAs | 20.00 | 1 | 20.00 | 1.00 | 20.00 | 52.14 | 1,042.80
Total | 129.00 |  |  |  | 124.00 |  | 6,465.36

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. Chapter 35.

Anna P. Guido,
Department Reports Management Officer, Office of the Chief Information Officer.

[FR Doc. 2020-27429 Filed 12-11-20; 8:45 am]

BILLING CODE 4210-67-P